DEPARTMENT OF COMMERCE

National Oceanic and Atmospheric Administration

[RTID 0648-XE752]

North Pacific Fishery Management Council; Public Meeting

AGENCY: National Marine Fisheries Service (NMFS), National Oceanic and Atmospheric Administration (NOAA), Commerce.

ACTION: Notice of public hybrid meeting.

SUMMARY: The North Pacific Fishery Management Council (Council) Fishery Monitoring Advisory Committee (FMAC) will meet May 12, 2025.

DATES: The meeting will be held on Monday, May 12, 2025, from 9 a.m. to 1 p.m. Alaska Time.

ADDRESSES: The meeting will be a hybrid meeting. On Monday, May 12, attend in-person at North Pacific Fishery Management Council office, 1007 W 3rd Ave., Anchorage, Alaska Suite 400 or join online through the link https://meetings.npfmc.org/Meeting/Details/3079.

Council address: North Pacific Fishery Management Council, 1007 W 3rd Ave., Anchorage, Suite 400, Alaska 99501-2252; telephone (907) 271-2809. Instructions for attending the meeting are given under SUPPLEMENTARY INFORMATION below.

FOR FURTHER INFORMATION CONTACT: Sara Cleaver, Council staff; email: sara.cleaver@noaa.gov. For technical support, please contact Council administrative staff, email: npfmc.admin@noaa.gov.

SUPPLEMENTARY INFORMATION:

Agenda

Monday, May 12, 2025

The May 2025 FMAC agenda will include review of the 2024 Observer Annual report; NMFS updates, including budget, and other business.

The agenda is subject to change, and the latest version will be posted at https://meetings.npfmc.org/Meeting/Details/3079 prior to the meeting, along with meeting materials.

Connection Information

You can attend the meeting online using a computer, tablet, or smartphone; or by phone only. Connection information will be posted online at: https://meetings.npfmc.org/Meeting/Details/3079.

Public Comment

Public comment letters will be accepted and should be submitted electronically to https://meetings.npfmc.org/Meeting/Details/3079.

Authority: 16 U.S.C. 1801 et seq.

Dated: March 7, 2025.
Rey Israel Marquez,
Acting Deputy Director, Office of Sustainable Fisheries, National Marine Fisheries Service.

[FR Doc. 2025-03952 Filed 3-12-25; 8:45 am]

BILLING CODE 3510-22-P